COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes product(s) and service(s) from the Procurement List that were furnished by nonprofit agencies employing persons who are blind or have other severe disabilities.

DATES: Date added to and deleted from the Procurement List: February 09, 2025

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Deletions

On 11/22/2024 (89 FR 92657), 11/29/2024 (89 FR 94715) and 12/6/2024 (89 FR 96948) the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7510-01-579-9321—Binder, Removable Slant-D Rings, 100% Recyclable, Turned Edge, Blue, 1½″ Capacity, Letter

Authorized Source of Supply: South Texas Lighthouse for the Blind, Corpus Christi, TX

Contracting Activity: STRATEGIC ACQUISITION CENTER, FREDERICKSBURG, VA

Contracting Activity: GSA/FAS ADMIN SVCS ACQUISITION BR(2, NEW YORK, NY

Service(s)

Service Type: Administrative Support Services

Mandatory for: US Army, Natick Contracting Division (ACC-APG), General Greene Avenue, Natick, MA

Authorized Source of Supply: Work, Incorporated, Dorchester, MA

Contracting Activity: DEPT OF THE ARMY, W6QK ACC-APG NATICK

Service Type: Mailing Services

Mandatory for: US Department of Energy, Office of Science Chicago Office, Argonne National Laboratory, Argonne, IL

Authorized Source of Supply: Jewish Child and Family Services, Chicago, IL

Contracting Activity: ENERGY, DEPARTMENT OF, SE-SC CHICAGO SERVICE CENTER

Service Type: Administrative & Courier Services

Mandatory for: Office of the Undersecretary of Defense (A&S)/Defense Pricing and Contracting (OUSD(A&S)/DPC), Suffolk Building (including The Pentagon & Mark Center), Falls Church, VA

Authorized Source of Supply: Anchor Mental Health Association, Washington, DC

Contracting Activity: WASHINGTON HEADQUARTERS SERVICES (WHS), WASHINGTON HEADQUARTERS SERVICES

Service Type: Centralized Appointment Call Center

Mandatory for: U.S. Air Force, Medical Treatment Facility, Eglin Air Force Base, FL

Authorized Source of Supply: Bobby Dodd Institute, Inc., Atlanta, GA

Contracting Activity: DEPT OF THE AIR FORCE, FA2823 AFTC PZIO

Service Type: Mail and Messenger Service

Mandatory for: US Army, Tobyhanna Army Depot, Tobyhanna, PA

Designated Source of Supply: The Burnley Workshop of the Poconos, Inc., Stroudsburg, PA

Contracting Activity: DEPT OF THE ARMY, W0ML USA DEP TOBYHANNA

Michael R. Jurkowski,
Director, Business Operations.

[FR Doc. 2025-00344 Filed 1-8-25; 8:45 am]

BILLING CODE 6353-01-P